DEPARTMENT OF HOMELAND SECURITY

Coast Guard

33 CFR Part 117

[USCG-2013-0416]

Drawbridge Operation Regulations; Reynolds Channel, Lawrence, NY

AGENCY: Coast Guard, DHS.

ACTION: Notice of temporary deviation from regulations.

SUMMARY: The Commander, First Coast Guard District, has issued a temporary deviation from the regulations governing the operation of the Atlantic Beach Bridge, mile 0.4, across Reynolds Channel, at Lawrence, New York. This temporary deviation authorizes the Atlantic Beach Bridge to operate under an alternate schedule for 176 days, to facilitate electrical and structural rehabilitation at the bridge.

DATES: This deviation is effective from June 9, 2013 through December 1, 2013.

ADDRESSES: Documents mentioned in this preamble as being available in the docket are part of docket USCG-2013-0416 and are available online at www.regulations.gov, inserting USCG-2013-0416 in the “Keyword” and then clicking “Search”. They are also available for inspection or copying at the Docket Management Facility (M-30), U.S. Department of Transportation, West Building Ground Floor, Room W12-140, 1200 New Jersey Avenue SE., Washington, DC 20590, between 9 a.m. and 5 p.m., Monday through Friday, except Federal holidays.

FOR FURTHER INFORMATION CONTACT: If you have questions on this rule, call or email Ms. Judy Leung-Yee, Project Officer, First Coast Guard District, telephone (212) 668-7165, email judy.k.leung-yee@uscg.mil. If you have questions on viewing the docket, call Barbara Hairston, Program Manager, Docket Operations, telephone 202-366-9826.

SUPPLEMENTARY INFORMATION: The Atlantic Beach Bridge, across Reynolds Channel, mile 0.4, at Lawrence, New York, has a vertical clearance in the closed position of 25 feet at mean high water and 30 feet at mean low water. The existing drawbridge operation regulations are listed at 33 CFR 117.799(e).

The owner of the bridge, Nassau County Bridge Authority, requested a temporary deviation to facilitate electrical and structural rehabilitation at the bridge.

The waterway has commercial and seasonal recreational vessels of various sizes.

Under this temporary deviation the draw of the Atlantic Beach Bridge at mile 0.4, across Reynolds Channel shall open on signal as follows:

(1) From June 9, 2013 through September 30, 2013, Monday through Friday, the draw may operate a single span on signal, every two hours, on the even hour, between 6 a.m. and 8 p.m. From 8 p.m. through 6 a.m. the draw may operate a single span on signal. On weekends and holidays from Friday at 8 p.m. through Monday at 6 a.m. the bridge shall open both spans every hour on the hour.

(2) From October 1, 2013 through December 1, 2013, the bridge shall operate a single span on signal at 6 a.m., 12 p.m., 4 p.m., and 8 p.m. and at any time between 8 p.m. and 6 a.m. The draw shall open both spans at all times for commercial vessel traffic after at least a 48 hour advance notice is given by calling the number posted at the bridge.

The Coast Guard contacted all known commercial waterway users regarding this deviation and no objections were received.

In accordance with 33 CFR 117.35(e), the bridge must return to its regular operating schedule immediately at the end of the designated time period. This deviation from the operating regulations is authorized under 33 CFR 117.35.

Dated: June 3, 2013.
Gary Kassof,
Bridge Program Manager, First Coast Guard District.

[FR Doc. 2013-13852 Filed 6-10-13; 8:45 am]

BILLING CODE 9110-04-P